DEPARTMENT OF AGRICULTURE

Forest Service

Black Hills National Forest, Northern Hills Ranger District, South Dakota and Bearlodge Ranger District, Wyoming, North Zone Range 05 Proposal and Analysis

AGENCY: Forest Service, USDA.

ACTION: Notice of intent to prepare an environmental impact statement.

SUMMARY: Revise Rangeland Allotment Management Plans (RAMP) for eight allotments comprising about 79,634 acres within two Ranger Districts of the Black Hills National Forest and analyze continuation of grazing within the constraints of the Revised Black Hills National Forest Land and Resource Management Plan, as amended (BHNF LRMP).

DATES: Comments concerning the scope of the analysis must be received within 30 days after publication in the Federal Register. The draft environmental impact statement is expected in December, 2005 and the final environmental impact statement is expected February, 2005.

ADDRESSES: Send written comments to Alice Allen, Hell Canyon Ranger District, 330 Mt. Rushmore Rd., Custer, South Dakota 57730. Comment may also be submitted by e-mail to: comments-rocky-mountain-black-hills-bearlodge@fs.fed.us with “North Zone Range 05” as subject.

FOR FURTHER INFORMATION CONTACT: Alice Allen, Project Coordinator, Black Hills National Forest, Hell Canyon Ranger District, at 330 Mt. Rushmore Rd., phone (605) 673-4853.

SUPPLEMENTARY INFORMATION: Purpose and Need for Action: The purpose of the project is to authorize livestock grazing in an environmentally acceptable manner. The EIS will determine current conditions, analyze environmental consequences of grazing management actions on those conditions, and assist the decision maker in selecting management/monitoring strategies consistent with meeting desired conditions in the BHNF LRMP, including Goals 1, 2 and 3. The need for the action is to revise allotment management plans, reverse any existing undesirable conditions, and ensure that authorized uses and associated management activities move them towards desired BHNF LRMP conditions. There is also a need to respond to requests for grazing permits on lands not currently being grazed.

Proposed Action: The Northern Hills and Bearlodge Ranger Districts propose to implement best management practices and activities with adaptive management and monitoring strategies to allow livestock grazing consistent with Forest Plan desired conditions, standards and guidelines.

Possible Alternatives: The Current Management Alternative would not change current permitted livestock grazing. The No Grazing Alternative would eliminate any livestock grazing on the project area.

Responsible Official

The Responsible Official for the allotments on the Bearlodge Ranger District is Steve Kozel, District Ranger, Black Hills National Forest, Bearlodge Ranger District, 121 S. 21st Street, Sundance, Wyoming 82729. THe Responsible Official for the allotments on the Northern Hills Ranger District is Pamela Brown, District Ranger, Black Hills National Forest, Northern Hills Ranger District, 2014 N. Main St., Spearfish, South Dakota 57783.

Nature of Decision To Be Made

The decision to be made is whether to continue to permit livestock grazing on all, part, or none of these allotments and, if so, under what terms and conditions to ensure that desired condition objectives are met, or that movement occurs toward those objectives. Whether or not to allow livestock grazing on three recently acquired parcels and one vacant grazing unit will also be decided, and if so, under what conditions.

Scoping Process

Comments and input regarding the proposal were requested from the public, other groups and agencies via direct mailing on March 21, 2005. Comments were due by April 20, 2005. Additional comments will be solicited during August and September 2005 via public notices and an additional direct mailing. Also, response to the draft EIS will be sought from the interested public in December 2005 and January 2006. Preliminary issues include grassland and riparian health, water quality, and effects on sensitive wildlife and plant species.

Comment Requested

This notice of intent initiates the scoping proces which guides the development of the environmental impact statement. It is the District's desire to involve interested parties in identifying the issues related to grazing management. Comments will help the planning team identify key issues and opportunities used to develop adaptive management tools, monitoring strategies, and alternatives. Persons who submitted comments previously need not resubmit those same comments in response to this request. Comments submitted previously will continue to be considered.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impacts statements must structure their participation in the environmental review of the proposal so that it is meaningful and alerts an agency to the reviewer's position and contentions. Vermont Yankee Nuclear Power Corp. v. NRDC, 435 U.S. 519, 553 (1978). Also, environmental objectives that could be raised at the draft environmental impact statement stage but that are not raised until after completion of the final environmental impact statement may be waived or dismissed by the courts, City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impacts statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 10, 2005.
Craig Bobzien,
Forest Supervisor, Black Hills National Forest.

[FR Doc. 05-16259 Filed 8-16-05; 8:45 am]

BILLING CODE 3410-11-M